DEPARTMENT OF JUSTICE

Office of Justice Programs

Agency Information Collection Activities: Proposed collection; Comments Requested

ACTION: 60-day notice of information collection under review: New collection; individual clearance of BJS publications surveys.

The Department of Justice (DOJ), Office of Justice Programs, Bureau of Justice Statistics (BJS) has submitted the following information collection request to the Office of Management and Budget (OMB) for review and approval in accordance with the Paperwork Reduction Act of 1995. The proposed information collection is published to obtain comments from the public and affected agencies. Comments are encouraged and will be accepted for “sixty days” until May 19, 2003. This process is conducted in accordance with 5 CFR 1320.10.

If you have comments especially on the estimated public burden or associated response time, suggestions, or need a copy of the proposed information collection instrument with instructions or additional information, please contact Bill Ballweber, (202) 305-2975, National Institute of Justice, U.S. Department of Justice, 810 Seventh Street, NW., Washington, DC 20531.

Request written comments and suggestions from the public and affected agencies concerning the proposed collection of information are encouraged. Your comments should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: New collection.

(2) Title of the Form/Collection: Individual Clearance for BJS Publications Survey.

(3) Agency form number, if any, and the applicable component of the Department of Justice sponsoring the collection: None. Office of Justice Programs, U.S. Department of Justice.

(4) Affected public who will be asked or required to respond, as well as a brief abstract: Respondents will be current recipients of agency products. Respondents may represent Federal agencies, State, local, and tribal governments, members of private organizations, research organizations, the media, non-profit organizations, international organizations, as well as faculty and students. This survey is designed to obtain feedback on four specific BJS products. BJS will be seeking information on the following areas: Recipients' interest in the specified publication, recipients' usage of the publication, and recipients' professional duties/activities, in a general sense.

(5) An estimate of the total number of respondents and the amount of time estimated for an average respondent to respond: It is estimated that there will be 2,201 respondents for the survey. It is estimated that the surveys will average 5 minutes to complete.

(6) An estimate of the total public burden (in hours) associated with the collection: An estimate of the annual public burden associated with this collection 183 hours.

If additional information is required contact: Brenda E. Dyer, Department Deputy Clearance Officer, Information Management and Security Staff, Justice Management Division, Department of Justice, Patrick Henry Building, Suite 1600, 601 D Street, NW., Washington, DC 20530.

Dated: March 13, 2003.
Brenda E. Dyer,
Department Deputy Clearance Officer, Department of Justice.

[FR Doc. 03-6500 Filed 3-18-03; 8:45 am]

BILLING CODE 4410-18-M